DEPARTMENT OF THE INTERIOR

[NPS-CONC-ABSV-13034; PPMVSCS1Y.Y00000, PPWOBSADC0]

Notice of Extension of Concession Contracts

AGENCY: National Park Service, Interior.

ACTION: Public Notice.

SUMMARY: The National Park Service hereby gives public notice that it proposes to extend the following concession contracts until the dates shown:

CONCID | Extend until—
CC-ORCA001-03 | December 31, 2014.
CC-DENA005-04 | December 31, 2014.
CC-DENA006-04 | December 31, 2014.
CC-DENA008-04 | December 31, 2014.
CC-DENA009-04 | December 31, 2014.
CC-DENA010-04 | December 31, 2014.
CC-DENA011-04 | December 31, 2014.
CC-KATM001-08 | December 31, 2015.

DATES: Effective May 1, 2013.

FOR FURTHER INFORMATION CONTACT: Deborah Harvey, Acting Chief, Commercial Services Program, National Park Service, 1201 Eye Street NW., 11th Floor, Washington, DC 20005; telephone (202) 513-7156.

SUPPLEMENTARY INFORMATION: Pursuant to 36 CFR 51.23, the National Park Service has determined the proposed extensions are necessary to avoid interruption of visitor services and has taken all reasonable and appropriate steps to consider alternatives to avoid such interruption.

Dated: May 17, 2013.
Lena McDowall,
Associate Director, Business Services.

[FR Doc. 2013-16264 Filed 7-5-13; 8:45 am]

BILLING CODE 4312-53-P